DEPARTMENT OF THE TREASURY

Internal Revenue Service

Open Meeting of the Joint Committee of the Taxpayer Advocacy Panel

AGENCY: Internal Revenue Service (IRS), Treasury.

ACTION: Amended Notice.

SUMMARY: An open meeting of the Joint Committee of the Taxpayer Advocacy Panel will be conducted. The Taxpayer Advocacy Panel is soliciting public comments, ideas and suggestions on improving customer service at the Internal Revenue Service.

DATES: The meeting will be held Saturday, October 4, 2003 from 12:30 p.m. EDT to 1:30 p.m. EDT.

FOR FURTHER INFORMATION CONTACT: Barbara Toy at 1-888-912-1227, or 414-297-1611.

SUPPLEMENTARY INFORMATION: Notice is hereby given pursuant to Section 10(a)(2) of the Federal Advisory Committee Act, 5 U.S.C. App. (1988) that an open meeting of the Joint Committee of the Taxpayer Advocacy Panel will be held Saturday, October 4, 2003, from 12:30 p.m. EDT to 1:30 p.m. EDT at Grand Hyatt Hotel, 1000 H Street, NW., Washington, DC. Written comments will be accepted by mail. If you would like to have the TAP consider a written statement, please call 1-888-912-1227 or 414-297-1611 or write Barbara Toy, TAP Office, 310 West Wisconsin Avenue Stop 1006MIL, Milwaukee, WI 53203. Mrs. Toy can be reached at 1-888-912-1227 or 414-297-1611. The agenda will include various IRS issues.

Dated: September 15, 2003.
Martha J. Curry,
Acting Director, Taxpayer Advocacy Panel.

[FR Doc. 03-24132 Filed 9-22-03; 8:45 am]

BILLING CODE 4830-01-P